DEPARTMENT OF TRANSPORTATION

Federal Aviation Administration

14 CFR Part 39

[Docket No. 2000-NM-63-AD; Amendment 39-12169; AD 2001-07-04]

RIN 2120-AA64

Airworthiness Directives; Cessna Model 750 Airplanes

AGENCY: Federal Aviation Administration, DOT.

ACTION: Final rule.

SUMMARY: This amendment adopts a new airworthiness directive (AD), applicable to certain Cessna Model 750 airplanes, that requires removal of a certain existing bulkhead web doubler, installation of left and right bulkhead web doublers, and enlargement of the lightening holes. This action is necessary to prevent jamming of the roll control system, due to inadequate clearance between the control cable and the web, which could result in reduced controllability of the airplane.

DATES: Effective May 15, 2001.

The incorporation by reference of certain publications listed in the regulations is approved by the Director of the Federal Register as of May 15, 2001.

ADDRESSES: The service information referenced in this AD may be obtained from Cessna Aircraft Company, P.O. Box 7706, Wichita, Kansas 67277. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: Shane Bertish, Aerospace Engineer, Systems and Propulsion Branch, ACE-116W, FAA, Wichita Aircraft Certification Office, 1801 Airport Road, Room 100, Mid-Continent Airport, Wichita, Kansas 67209; telephone (316) 946-4156; fax (316) 946-4407.

SUPPLEMENTARY INFORMATION: A proposal to amend part 39 of the Federal Aviation Regulations (14 CFR part 39) to include an airworthiness directive (AD) that is applicable to certain Cessna Model 750 airplanes was published in the Federal Register on August 8, 2000 (65 FR 48401). That action proposed to require removing a certain existing bulkhead web doubler, installing new left and right bulkhead web doublers, and enlarging the lightening holes.

Comments Received

Interested persons have been afforded an opportunity to participate in the making of this amendment. Due consideration has been given to the comment received.

Request To Withdraw the Proposed AD

The commenter, the manufacturer, states that all affected airplanes have already complied with the requirements of the proposed AD. Therefore, the commenter requests that the FAA withdraw the proposed AD.

The FAA does not agree. We acknowledge that the manufacturer has stated that all affected airplanes have accomplished the actions specified in Cessna Service Bulletin SB750-53-19, dated January 20, 2000 (the appropriate service information specified in the final rule). However, we have determined that it is necessary to issue a final rule to prevent an inadvertent installation of a bulkhead web doubler having part number (P/N) 6711093-38 on any airplane. As explained in the preamble of the proposed AD, installation of that doubler could cause jamming of the roll control system (ailerons and spoilers) and result in reduced controllability of the airplane. Therefore, no change to the final rule is necessary.

Conclusion

After careful review of the available data, including the comment noted above, the FAA has determined that air safety and the public interest require the adoption of the rule as proposed.

Cost Impact

The FAA estimates that approximately 95 Cessna Model 750 airplanes of U.S. registry will be affected by this AD, that it will take approximately 8 work hours per airplane to accomplish the required actions, and that the average labor rate is $60 per work hour. The manufacturer has committed previously to its customers that it will bear the cost of replacement parts. Based on these figures, the cost impact of the AD on U.S. operators is estimated to be $45,600, or $480 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-07-04 Cessna Aircraft Company: Amendment 39-12169. Docket 2000-NM-63-AD.

Applicability: Model 750 airplanes, having manufacturer's serial numbers -0001 through -0102 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent jamming of the roll control system (ailerons and spoilers), which could result in reduced controllability of the airplane, accomplish the following:

Inspection and Removal

(a) Within 200 flight hours or 180 days after the effective date of this AD, whichever occurs first, inspect the bulkhead web for an existing round bulkhead web doubler, in accordance with the Accomplishment Instructions of Cessna Service Bulletin SB750-53-19, dated January 20, 2000. If there is a round bulkhead web doubler having part number (P/N) 6711093-38, prior to further flight, remove the doubler in accordance with the service bulletin.

Installation

(b) Within 200 flight hours or 180 days after the effective date of this AD, whichever occurs first, install a new right bulkhead web doubler having P/N 6791213-4 and a left bulkhead web doubler having P/N 6791213-3 and enlarge the lightening holes, in accordance with the Accomplishment Instructions of Cessna Service Bulletin SB750-53-19, dated January 20, 2000.

Spares

(c) As of the effective date of this AD, no person shall install a bulkhead web doubler having P/N 6711093-38, on any airplane.

Alternative Method of Compliance

(d) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 2: Information concerning the existence of approved alternative methods of compliance with this AD, if any, may be obtained from the Wichita ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Cessna Service Bulletin SB750-53-19, including Supplemental Data, dated January 20, 2000. This incorporation by reference was approved by the Director of the Federal Register in accordance with 5 U.S.C. 552(a) and 1 CFR part 51. Copies may be obtained from Cessna Aircraft Company, P.O. Box 7706, Wichita, Kansas 67277. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(g) This amendment becomes effective on May 15, 2001.

Issued in Renton, Washington, on April 2, 2001.
Donald L. Riggin,
Acting Manager, Transport Airplane Directorate, Aircraft Certification Service.

[FR Doc. 01-8611 Filed 4-9-01; 8:45 am]

BILLING CODE 4910-13-P